DEPARTMENT OF JUSTICE

Office of Justice Programs

Agency Information Collection Activities; Proposed Collections; Comments Requested

ACTION: 60—day notice of information collection under review; reinstatement, with change, of a previously approved collection for which approval has expired—National Youth Gang Survey.

The Department of Justice (DOJ), Office of Justice Programs, (OJP), Office of Juvenile Justice and Delinquency Prevention has submitted the following information collection request to the Office of Management and Budget (OMB) for review and approval in accordance with the Paperwork Reduction Act of 1995. The proposed information collection is published to obtain comments from the public and affected agencies.

Comments are encouraged and will be accepted for “sixty days” until December 28, 2001. This process is conducted in accordance with 5 CFR 1320.10.

If you have comments especially on the estimated public burden or associated response time, suggestions, or need a copy of the proposed information collection instrument with instructions or additional information, please contact Phelan Wyrick, (202) 353-9254, Office of Juvenile Justice and Delinquency Prevention, Office of Justice Programs, U.S. Department of Justice, 810 Seventh Street, NW., Washington, DC 20531.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Reinstatement, with change, of a previously approved collection for which approval has expired.

(2) The title of the form/collection: National Youth Gang Survey.

(3) The agency form number, if any, and the applicable component of the Department sponsoring the collection: Office of Juvenile Justice, and Delinquency Prevention, Office of Justice Programs, U.S. Department of Justice.

(4) Affected public who will be asked or required to respond, as well as a brief abstract: Primary: State, Local, or Tribal law enforcement agencies. Other: None. This collection will gather information related to youth and their activities for research and assessment purposes.

(5) An estimate of the total number of respondents and the amount of time estimated for an average respondent to respond/reply: It is estimated that there will be 3,000 respondents. It is estimated that each survey will take 15 minutes to complete.

(6) An estimate of the total public burden (in hours) associates with the collection: An estimate of the total hour burden to conduct this survey is 750 hours.

If additional is required contact: Brenda E. Dyer, Department Deputy Clearance Officer, Information Management and Security Staff, Justice Management Division, United States Department of Justice, Suite 1600, 601 D Street NW, Washington, DC 20530.

Dated: October 23, 2001.
Brenda E. Dyer,
Department Deputy Clearance Officer, United States Department of Justice.

[FR Doc. 01-27091 Filed 10-26-01; 8:45 am]

BILLING CODE 4410-18-M